SMALL BUSINESS ADMINISTRATION

Public Federal Regulatory Enforcement Fairness Hearing Region VI Regulatory Fairness Board

The U.S. Small Business Administration (SBA) Region VI Regulatory Fairness Board and the SBA Office of the National Ombudsman will hold a public hearing on Thursday, November 10, 2005, at 9 a.m. The meeting will take place at the State Capitol, Old Supreme Court Room, Fifth and Woodlane, Little Rock, AR to receive comments and testimony from small business owners, small government entities, and small non-profit organizations concerning regulatory enforcement and compliance actions taken by Federal agencies.

Anyone wishing to attend or to make a presentation must contact Carol Silverstrom, in writing or by fax, in order to be put on the agenda. Carol Silverstrom, Public Information Officer, SBA, Arkansas District Office, 2120 Riverfront Drive Suite 250, Little Rock, AR 72202-1796, phone (501) 324-7379 Ext. 227, fax (501) 324-7395, e-mail: Carol.silverstrom@sba.gov.

For more information, see our Web site at http://www.sba.gov/ombudsman.

Matthew K. Becker,
Committee Management Officer.

[FR Doc. 05-21600 Filed 10-28-05; 8:45 am]

BILLING CODE 8025-01-P